DEPARTMENT OF HEALTH AND HUMAN SERVICES

Centers for Medicare & Medicaid Services

[CMS-4028-N]

Medicare Program: Meeting of the Advisory Panel on Medicare Education—Thursday, October 25, 2001

AGENCY: Centers for Medicare & Medicaid Services (CMS), HHS.

ACTION: Notice of meeting.

SUMMARY: In accordance with section 10(a) of the Federal Advisory Committee Act, this notice announces a meeting of the Advisory Panel on Medicare Education (the Panel) on Thursday, October 25, 2001. This Panel advises and makes recommendations to the Secretary of the Department of Health and Human Services (HHS) and the Administrator of the Centers for Medicare & Medicaid Services (CMS), on opportunities for CMS to optimize the effectiveness of the National Medicare Education Program and other CMS programs that help Medicare beneficiaries understand Medicare and the range of Medicare options available with the passage of the Medicare+Choice Program. The Panel meeting is open to the public.

DATE: The meeting is scheduled for Thursday, October 25, 2001, from 9:00 am. to 5:00 pm.

ADDRESS: The meeting will be held at the Capitol Hill Club, 300 First Street, SE., Washington, DC 20003, (202) 484-4590.

FOR FURTHER INFORMATION CONTACT: Nancy M. Caliman, Health Insurance Specialist, Division of Partnership Development, Center for Beneficiary Choices, Centers for Medicare & Medicaid Services, 7500 Security Boulevard, S2-23-05, Baltimore, MD, 21244-1850, (410) 786-5052. Please refer to the CMS Advisory Committees Information Line (1-877-449-5659 toll free)/(410-786-9379 local) or the Internet (http://www.hcfa.gov/events/apme/homepage.htm) for additional information and updates on committee activities, or contact Ms. Caliman via E-mail at APME@cms.hhs.gov. Press inquiries are handled through the CMS Press Office at (202) 690-6145.

SUPPLEMENTARY INFORMATION: Section 222 of the Public Health Service Act, as amended, grants to the Secretary the authority to establish an advisory panel if the Secretary finds the panel necessary and in the public interest. The Secretary signed the charter establishing this Panel on January 21, 1999 and the charter renewing the Panel on January 18, 2001. The Advisory Panel on Medicare Education advises the Department of Health and Human Services and the Centers for Medicare & Medicaid Services on opportunities to enhance the effectiveness of consumer education strategies concerning the Medicare program.

The goals of the Panel are to provide advice on the following:

• Developing and implementing a national Medicare education program that describes the options for selecting a health plan under Medicare.

• Enhancing the Federal government's effectiveness in informing the Medicare consumer, including the appropriate use of public-private partnerships.

• Expanding outreach to vulnerable and underserved communities, including racial and ethnic minorities, in the context of a national Medicare education program.

• Assembling an information base of best practices for helping consumers evaluate health plan options and building a community infrastructure for information, counseling, and assistance.

The current members of the Panel are: Diane Archer, J.D., President, Medicare Rights Center; David Baldridge, Executive Director, National Indian Council on Aging; Bruce Bradley, M.B.A., Director, Managed Care Plans, General Motors Corporation; Carol Cronin, Chairperson, Advisory Panel on Medicare Education; Joyce Dubow, M.U.P., Senior Policy Advisor, Public Policy Institute, AARP; Jennie Chin Hansen, Executive Director, On Lok Senior Health Services; Elmer Huerta, M.D., M.P.H., Director, Cancer Risk and Assessment Center, Washington Hospital Center; Bonita Kallestad, J.D., M.S., Mid Minnesota Legal Assistance; Steven Larsen, J.D., M.A., Maryland Insurance Commissioner, Maryland Insurance Administration; Brian Lindberg, M.M.H.S., Executive Director, Consumer Coalition for Quality Health Care; Heidi Margulis, B.A., Vice President, Government Affairs, Humana, Inc.; Patricia Neuman, Sc.D., Director, Medicare Policy Project, Henry J. Kaiser Family Foundation; Elena Rios, M.D., M.S.P.H., President, National Hispanic Medical Association; Samuel Simmons, B.A., President and CEO, The National Caucus and Center on Black Aged, Inc.; Nina Weinberg, M.A., President, National Health Council; and Edward Zesk, B.A., Executive Director, Aging 2000.

The agenda for the October 25, 2001 meeting will include the following:

• Recap of the previous meeting (July 12, 2001).

• CMS update/issues.

• Fall Medicare Ad Campaign.

• Update on Medicare Helpline and Medicare Personal Plan Finder (Web-based Decision Support Tool).

• APME Annual Report.

• Public comment.

Individuals or organizations that wish to make a 5-minute oral presentation on an agenda topic should contact Ms. Caliman by 12 noon, Thursday, October 18, 2001. In conjunction, a written copy of the oral presentation should also be submitted to Ms. Caliman by 12 noon, Thursday, October 18, 2001. The number of oral presentations may be limited by the time available. Individuals not wishing to make a presentation may submit written comments to Ms. Caliman by 12 noon, Thursday, October 18, 2001. The meeting is open to the public, but attendance is limited to the space available. Individuals requiring sign language interpretation for the hearing impaired or other special accommodations should contact Ms. Caliman at least 15 days before the meeting.

(Section 222 of the Public Health Service Act (42 U.S.C. 217(a)) and section 10(a) of Public Law 92-463 (5 U.S.C. App. 2, section 10(a) and 41 CFR 102-3)

(Catalog of Federal Domestic Assistance Program No. 93.773, Medicare—Hospital Insurance Program; and Program No. 93.774, Medicare—Supplementary Medical Insurance Program)

Dated: September 28, 2001.
Thomas A. Scully,
Administrator, Centers for Medicare & Medicaid Services.

[FR Doc. 01-24919 Filed 10-1-01; 3:09 pm]

BILLING CODE 4120-01-P